DEPARTMENT OF HEALTH AND HUMAN SERVICES

Centers for Disease Control and Prevention

Preventing Maternal and Neonatal Bacterial Infections in Developing Settings With a High Prevalence of HIV: Assessment of the Disease Burden and Evaluation of an Affordable Intervention in Soweto, South Africa; Notice of Intent To Fund Single Eligibility Award

A. Purpose

The Centers for Disease Control and Prevention (CDC) announces the intent to fund fiscal year (FY) 2005 funds for a cooperative agreement program to conduct a clinical trial to evaluate the efficacy of chlorhexidine vaginal wipes during labor at preventing perinatal and maternal post-partum sepsis in an African setting with a high prevalence of maternal HIV infection. In conjunction with this trial, risk factors for serious neonatal and maternal peripartum infections will be evaluated, with an emphasis on the impact of maternal HIV infection on these outcomes. Prospective maternal and neonatal infections surveillance will also be established to characterize the burden of disease. The Catalog of Federal Domestic Assistance number for this program is 93.283.

B. Eligible Applicant

Assistance will be provided only to the Respiratory and Meningeal Pathogens Unit of the Medical Research Council of South Africa. No other applications are solicited.

The Respiratory and Meningeal Pathogens Unit is the only institution that possesses the requisite scientific and technical expertise, the infrastructure capacity and experience and collaborative relationships necessary to conduct the described research topics and to ensure that all aspects of this agreement can be fulfilled. The Unit has already been a single eligibility recipient of a cooperative agreement for this activity and is midway through completion of this activity. This RFA will allow for completion of the activity.

C. Funding

Approximately $800,000 is available in FY 2005 to fund this award. It is expected that the award will begin on or before August 31, 2005, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For program issues, contact: Trudy Messmer, Scientific Review Administrator, 1600 Clifton Road, MS C-19, Atlanta, GA 30333, Telephone: (404) 639-3770, E-mail: TMessmer@cdc.gov.

Dated: March 24, 2005.
William P. Nichols,
Director, Procurement and Grants Office, Centers for Disease Control and Prevention.

[FR Doc. 05-6257 Filed 3-29-05; 8:45 am]

BILLING CODE 4163-18-P